DEPARTMENT OF COMMERCE

National Oceanic and Atmospheric Administration

50 CFR Part 300

[Docket No. 180209155-8750-03]

RIN 0648-BH77

International Fisheries; Western and Central Pacific Fisheries for Highly Migratory Species; Fishing Limits in Purse Seine and Longline Fisheries, Restrictions on the Use of Fish Aggregating Devices in Purse Seine Fisheries, and Transshipment Prohibitions

AGENCY: National Marine Fisheries Service (NMFS), National Oceanic and Atmospheric Administration (NOAA), Commerce.

ACTION: Final rule; date of effectiveness for collection-of-information requirements.

SUMMARY: NMFS announces approval by the Office of Management and Budget (OMB) of a collection-of-information requirement, which was contained in regulations implementing fishing limits in purse seine and longline fisheries, and other restrictions, for U.S. vessels used to fish for highly migratory species in the western and central Pacific Ocean (WCPO), in a final rule published on July 18, 2018. The intent of this final rule is to inform the public of the effectiveness of the collection-of-information requirement associated with daily purse seine fishing effort reports included in the final rule.

DATES: This final rule is effective August 30, 2018. The amendment to 50 CFR 300.218(g), published at 83 FR 33851 (July 18, 2018), is effective on August 30, 2018.

ADDRESSES: Written comments regarding burden-hour estimates or other aspects of the collection-of-information requirements contained in this final rule may be submitted to Michael D. Tosatto, Regional Administrator, NMFS, Pacific Islands Regional Office (PIRO), 1845 Wasp Blvd., Building 176, Honolulu, HI 96818 and by email to OIRA_Submission@omb.eop.gov or fax to (202) 395-5806.

FOR FURTHER INFORMATION CONTACT: Emily Crigler, NMFS, (808) 725-5036, or emily.crigler@noaa.gov.

SUPPLEMENTARY INFORMATION: Under authority of the Western and Central Pacific Fisheries Convention Implementation Act (WCPFC Implementation Act; 16 U.S.C. 6901 et seq.), NMFS implemented recent decisions of the Commission for the Conservation and Management of Highly Migratory Fish Stocks in the Western and Central Pacific Ocean.

Background

NMFS issued a final rule to implement specific fishing limits in purse seine and longline fisheries, and other restrictions, for U.S. vessels used to fish for highly migratory species in the WCPO. The final rule was published in the Federal Register on July 18, 2018 (83 FR 33851) and the associated regulations are found at 50 CFR part 300. The requirements of that final rule, other than the collection-of-information requirements associated with the daily purse seine fishing effort reports, were effective on July 18, 2018. OMB approved the collection-of-information requirements contained in the final rule on August 3, 2018, under OMB Control Number 0648-0649. Accordingly, this final rule announces the approval and effective date of the daily purse seine fishing effort report requirements found at 50 CFR 300.218(g).

Classification

Administrative Procedure Act

Pursuant to 5 U.S.C. 553(b)(B), there is good cause to waive prior notice and opportunity for public comment for this action because notice and comment would be unnecessary and contrary to the public interest. This action simply provides notice of OMB's approval of the reporting requirements at issue, which has already occurred, and renders those requirements effective. Thus this action does not involve any further exercise of agency discretion by NMFS or OMB. Moreover, the public has had prior notice and the opportunity to comment on the collection-of-information requirement. NMFS published a proposed rule including the collection-of-information requirement (83 FR 21748; published May 10, 2018), with comments accepted until May 25, 2018. The final rule (83 FR 33851; published July 18, 2018), included a response to the one comment received on the reporting requirements, advised where to send any additional comments on aspects of the collection of information, and indicated that this final rule would be published announcing the effective date for the revised reporting requirements upon OMB approval.

There is good cause under 5 U.S.C. 553(d)(3) to waive the 30-day delay in effective date for the collection-of-information requirement. The reporting requirements included in this final rule are intended to allow NMFS to obtain better data, to more accurately track the purse seine fishing effort limits, specified at 50 CFR 300.223(a), and to predict when a fishing effort limit is expected to be reached with greater certainty. Delaying the effective date of this reporting requirement will limit NMFS's ability to accurately track fishing effort and make timely predictions of when effort limits may be reached. Accordingly, waiver of the 30-day delay in effective date is necessary to comply with the requirements of the WCPFC Implementation Act, the failure of which would be contrary to the public interest.

Executive Order 12866

This final rule has been determined to be not significant for purposes of Executive Order 12866.

Paperwork Reduction Act

This final rule contains a collection-of-information requirement subject to the Paperwork Reduction Act (PRA) and which OMB approved under OMB Control Number 0648-0649 on August 3, 2018. Specifically, U.S. purse seine vessels owners and operators may be required, when directed by NMFS, to provide daily reports on the fishing activity of the vessel (e.g., setting, transiting, searching), location, and type of set. This requirement is similar to a previous collection-of-information requirement which required U.S. purse seine owners and operators, when directed by NMFS, to provide daily reports on the number of sets made on fish aggregating devices (FADs) during that day. The public reporting burden for the daily report of purse seine effort information is estimated to average 10 minutes per response, including time for reviewing instructions, searching existing data sources, gathering and maintaining the data needed, and completing and reviewing the collection of information. Send comments regarding this burden estimate, or any other aspect of this data collection, including suggestions for reducing the burden, to NMFS (see ADDRESSES) and by email to OIRA_Submissions@omb.eop.gov, or fax to (202) 395-5806.

Notwithstanding any other provision of the law, no person is required to respond to, and no person shall be subject to penalty for failure to comply with, a collection-of-information subject to the requirements of the PRA, unless that collection-of-information displays a currently valid OMB control number.

Authority: 16 U.S.C. 6901 et seq.

Dated: August 24, 2018.
Samuel D. Rauch III,
Deputy Assistant Administrator for Regulatory Programs, National Marine Fisheries Service.

[FR Doc. 2018-18774 Filed 8-29-18; 8:45 am]

BILLING CODE 3510-22-P